DEPARTMENT OF COMMERCE

Foreign-Trade Zones Board

[Order No. 1449]

Expansion of Foreign-Trade Zone 104, Savannah, Georgia

Pursuant to its authority under the Foreign-Trade Zones Act of June 18, 1934, as amended (19 U.S.C. 81a-81u), the Foreign-Trade Zones Board (the Board) adopts the following Order:

Whereas, the Savannah Airport Commission, grantee of Foreign-Trade Zone 104, submitted an application to the Board for authority to expand FTZ 104 to include a site (1,592 acres, Site 7) within the Tradeport Business Center industrial park located in Midway (Liberty County), Georgia, adjacent to the Savannah Customs port of entry (FTZ Docket 54-2005; filed 10/24/05);

Whereas, notice inviting public comment was given in the Federal Register (70 FR 65882, 11/1/05) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 104 is approved, subject to the Act and the Board's regulations, including Section 400.28, and further subject to the Board's standard 2,000-acre activation limit for the overall general-purpose zone project.

Signed at Washington, DC, this 15th day of May 2006.

David M. Spooner,
Assistant Secretary of Commerce for Import Administration, Alternate Chairman, Foreign-Trade Zones Board.
Attest:
Dennis Puccinelli,
Executive Secretary.

[FR Doc. E6-7838 Filed 5-22-06; 8:45 am]

BILLING CODE 3510-DS-S